DEPARTMENT OF HOMELAND SECURITY

Federal Emergency Management Agency

[Docket ID FEMA-2020-0002; Internal Agency Docket No. FEMA-B-2034]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado: Broomfield | City and County of Broomfield (19-08-1004P). | The Honorable Patrick Quinn, Mayor, City and County of Broomfield, 1 DesCombes Drive, Broomfield, CO 80020. | Engineering Department, 1 DesCombes Drive, Broomfield, CO 80020. | https://msc.fema.gov/portal/advanceSearch. | July 6, 2020 | 085073
Florida: Collier | Unincorporated areas of Collier County, (19-04-6241P). | Mr. Burt L. Saunders, Chairman, Collier County Board of Commissioners, 3299 Tamiami Trail East, Suite 303, Naples, FL 34112. | Collier County Growth Management Department, 2800 North Horseshoe Drive, Naples, FL 34104. | https://msc.fema.gov/portal/advanceSearch. | Jul. 14, 2020 | 120067
New Mexico: Lea | City of Hobbs, (19-06-2692P) | The Honorable Sam D. Cobb, Mayor, City of Hobbs, 200 East Broadway Street, Hobbs, NM 88240. | Engineering Department, 200 East Broadway Street, Hobbs, NM 88240. | https://msc.fema.gov/portal/advanceSearch. | Jul. 16, 2020 | 350029
Texas:
Kendall | Unincorporated areas of Kendall County (19-06-2757P). | The Honorable Darrel L. Lux, Kendall County Judge, 201 East San Antonio Avenue, Suite 122, Boerne, TX 78006. | Kendall County Engineering Department, 201 East San Antonio Avenue, Suite 122, Boerne, TX 78001. | https://msc.fema.gov/portal/advanceSearch. | Jul. 13, 2020 | 480417
Kerr | Unincorporated areas of Kerr County (19-06-2757P). | The Honorable Rob Kelly, Kerr County Judge, 700 East Main Street, Kerrville, TX 78028. | Kerr County Engineering Department, 3766 State Highway 27, Kerrville, TX 78028. | https://msc.fema.gov/portal/advanceSearch. | Jul. 13, 2020 | 480419
McLennan | City of Lacy Lakeview (20-06-0788P). | The Honorable Sharon Clark, Mayor, City of Lacy Lakeview, 501 East Craven Avenue, Lacy Lakeview, TX 76705. | City Hall, 501 East Craven Avenue, Lacy Lakeview, TX 76705. | https://msc.fema.gov/portal/advanceSearch. | Jul. 20, 2020 | 480927
McLennan | Unincorporated areas of McLennan County (20-06-0788P). | The Honorable Scott M. Felton, McLennan County Judge, 501 Washington Avenue, Suite 214, Waco, TX 76701. | McLennan County Engineering and Mapping Department, 215 North 5th Street, Suite 130, Waco, TX 76701. | https://msc.fema.gov/portal/advanceSearch. | Jul. 20, 2020 | 480456
Tarrant | City of Grapevine (19-06-2895P). | The Honorable William D. Tate, Mayor, City of Grapevine, P.O. Box 95104, Grapevine, TX 76099. | City Hall, 200 South Main Street, Grapevine, TX 76099. | https://msc.fema.gov/portal/advanceSearch. | Jul. 20, 2020 | 480598
Tarrant | Town of Flower Mound, (19-06-2895P). | The Honorable Steve Dixon, Mayor, Town of Flower Mound, 2121 Cross Timbers Road, Flower Mound, TX 75028. | Town Hall, 2121 Cross Timbers Road, Flower Mound, TX 75028. | https://msc.fema.gov/portal/advanceSearch. | Jul. 20, 2020 | 480777
Wyoming:
Laramie | City of Cheyenne (19-08-0688P). | The Honorable Marian J. Orr, Mayor, City of Cheyenne, 2101 O'Neil Avenue, Cheyenne, WY 82001. | Planning and Development Department, 2101 O'Neil Avenue, Cheyenne, WY 82001. | https://msc.fema.gov/portal/advanceSearch. | Jul. 8 2020 | 560030
Laramie | Unincorporated areas of Laramie County (19-08-0688P). | The Honorable Gunnar Malm, Chairman, Laramie County Board of Commissioners, 310 West 19th Street, Suite 300, Cheyenne, WY 82001. | Laramie County Public Works Department, 13797 Prairie Center Circle, Cheyenne, WY 82001. | https://msc.fema.gov/portal/advanceSearch. | Jul. 8 2020 | 560029

[FR Doc. 2020-11724 Filed 5-29-20; 8:45 am]

BILLING CODE 9110-12-P